DEPARTMENT OF COMMERCE

National Oceanic and Atmospheric Administration

[RTID 0648-XE055]

Marine Fisheries Advisory Committee Meeting

AGENCY: National Marine Fisheries Service (NMFS), National Oceanic and Atmospheric Administration (NOAA), Commerce.

ACTION: Notice of open public meeting.

SUMMARY: This notice sets forth the proposed schedule and agenda of a forthcoming meeting of the Marine Fisheries Advisory Committee (MAFAC). The members will discuss and provide advice on issues outlined under the SUPPLEMENTARY INFORMATION section below.

DATES: The meeting will be held August 27, 2024, from 2 to 4 p.m. Eastern Time.

ADDRESSES: Meeting is by webinar and teleconference. Conference call and webinar access information are available at: https://www.fisheries.noaa.gov/event/august-2024-marine-fisheries-advisory-committee-meeting.

Public comment may be provided to MAFAC by one of the following methods:

Submit written comments in advance of the MAFAC public meeting to katie.zanowicz@noaa.gov, with “August 2024 MAFAC” in the subject line of the email message. Oral public comment may be provided during the virtual meeting at the time allotted on the posted agenda.

FOR FURTHER INFORMATION CONTACT: Katie Zanowicz, MAFAC Assistant, 301-427-8038, katie.zanowicz@noaa.gov.

SUPPLEMENTARY INFORMATION: As required by section 10(a)(2) of the Federal Advisory Committee Act, 5 U.S.C. appendix 2, notice is hereby given of a meeting of MAFAC. The MAFAC was established by the Secretary of Commerce (Secretary) and, since 1971, advises the Secretary on all living marine resource matters that are the responsibility of the Department of Commerce. The charter, summaries of prior meetings, and MAFAC recommendations and reports are located online at https://www.fisheries.noaa.gov/topic/partners/marine-fisheries-advisory-committee.

Matters To Be Considered

The meeting time and agenda are subject to change. The meeting is convened for MAFAC to deliberate and vote on proposed comment and recommendations on the revised NMFS Ecosystem-Based Fisheries Management Road Map. MAFAC may also discuss various administrative and organizational matters.

Time and Date

The virtual meeting will be held August 27, 2024, from 2 to 4 p.m. Eastern Time. Conference call and webinar access information are available at https://www.fisheries.noaa.gov/event/august-2024-marine-fisheries-advisory-committee-meeting.

Special Accommodations

This virtual meeting is accessible to people with disabilities. Requests for sign language interpretation or other auxiliary aids should be directed to Katie Zanowicz, (301) 427-8038, by August 13, 2024.

Dated: July 19, 2024.
Heidi Lovett,
Designated Federal Officer, Marine Fisheries Advisory Committee, National Marine Fisheries Service.

[FR Doc. 2024-16250 Filed 7-23-24; 8:45 am]

BILLING CODE 3510-22-P